DEPARTMENT OF LABOR

Employment and Training Administration

[TA-W-71,014]

Jeld-Wen, Inc., Hawkins Window Division, Including On-Site Leased Workers of Nicolet Staffing, Hawkins, WI; Notice of Negative Determination on Reconsideration

On December 3, 2009, the Department issued an Affirmative Determination Regarding Application for Reconsideration for the workers and former workers of the subject firm. The Department's Notice of determination was published in the Federal Register on December 11, 2009 (74 FR 65790).

The initial investigation resulted in a denial based on the findings that subject firm and customer imports of wood- and aluminum-clad windows and patio doors did not contribute to worker group separations and that the subject firm neither shifted to, nor acquired from, a foreign country the production of like or directly competitive articles.

In the request for reconsideration, the petitioners requested that additional customer surveys be conducted.

During the reconsideration investigation, the Department conducted a survey of six additional major declining customers of the subject firm regarding their purchases of wood- and aluminum-clad windows and patio doors during 2007, 2008, January through April 2008, and January through April 2009. The survey included one customer who accounted for 17 percent of the subject firm's total sales during 2007 and 2008, and another customer who accounted for 14 percent of the subject firm's total sales during January through May 2009. In total, the surveyed accounted for 91 percent of the decline in total subject firm sales from 2007 to 2008, and 20 percent of the decline in total subject firm sales during January through April 2009 as compared with the same four months in 2008.

The survey conducted during the reconsideration investigation revealed negligible customer imports of wood- and aluminum-clad windows and patio doors during 2007, 2008, and during January through April 2009.

Conclusion

After reconsideration, I affirm the original notice of negative determination of eligibility to apply for worker adjustment assistance for workers and former workers of Jeld-Wen, Inc., Hawkins Window Division, including on-site leased workers of Nicolet Staffing, Hawkins, Wisconsin.

Signed at Washington, DC, this 16th day of July 2010.
Del Min Amy Chen,
Certifying Officer, Division of Trade Adjustment Assistance.

[FR Doc. 2010-18834 Filed 7-30-10; 8:45 am]

BILLING CODE 4510-FN-P